DEPARTMENT OF LABOR

Employment and Training Administration

[TA-W-62,101]

American Woodmark, Hardy County Plant, Moorefield, Notice of Affirmative Determination Regarding Application for Reconsideration

By application dated November 8, 2007, Carpenters Industrial Council, United Brotherhood of Carpenters and Joiners of America requested administrative reconsideration of the Department of Labor's Notice of Negative Determination Regarding Eligibility to Apply for Worker Adjustment Assistance, applicable to workers and former workers of the subject firm. The denial notice was signed on October 17, 2007 and published in the Federal Register on October 31, 2007 (72 FR 61685).

The initial investigation resulted in a negative determination based on the finding that imports of kitchen cabinet parts did not contribute importantly to worker separations at the subject firm and no shift of production to a foreign source occurred.

In the request for reconsideration, the petitioner provided additional information concerning the interpretation of facts of the investigation.

The Department has carefully reviewed the request for reconsideration and the existing record and therefore the Department will conduct further investigation to determine if the workers meet the eligibility requirements of the Trade Act of 1974.

Conclusion

After careful review of the application, I conclude that the claim is of sufficient weight to justify reconsideration of the Department of Labor's prior decision. The application is, therefore, granted.

Signed in Washington, DC, this 30th day of November, 2007.
Elliott S. Kushner,
Certifying Officer, Division of Trade Adjustment Assistance.

[FR Doc. E7-23912 Filed 12-10-07; 8:45 am]

BILLING CODE 4510-FN-P